DEPARTMENT OF HOUSING AND URBAN DEVELOPMENT

[Docket No. FR-4653-N-12]

Notice of Proposed Information Collection for Public Comment: Housing Choice Voucher Tenant Accessibility Study: 2002-2003

AGENCY: Office of Policy Development and Research, HUD.

ACTION: Notice

SUMMARY: The proposed information collection requirement concerning a project to obtain information on the Housing Choice Voucher Tenant Accessibility Study 2002-2003 will be submitted to the Office of Management and Budget (OMB) for review, as required by the Paperwork Reduction Act. The Department is soliciting public comments on the subject proposal.

DATES: Comments Due Date: March 4, 2002.

ADDRESSES: Interested persons are invited to submit comments regarding this proposal. Comments should refer to the proposal by name and/or OMB Control Number and should be sent to: Reports Liaison Officer, Department of Housing and Urban Development, 451 7th Street, SW., Room 8228, Washington, DC 20410.

FOR FURTHER INFORMATION CONTACT: Dianne Thompson, Office of Policy Development and Research, Department of Housing and Urban Development, 451 7th Street, SW., Room 8154, Washington, DC 20410, telephone number (202) 708-5537 extension 5863 (this is not a toll-free number). Copies of the proposed forms and other available documents may be obtained from Ms. Thompson.

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Housing Choice Voucher Tenant Accessibility study: 2002-2003.

Description of the need for the information and proposed use: The primary purpose of the proposed data collection is to develop a mail questionnaire for HUD that can be used with a national sample of Housing Choice Voucher tenants with physical disabilities to determine their satisfaction with the search process and the quality of their housing unit.

Members of affected public: None.

Estimation of the total numbers of hours needed to prepare the information collection including number of respondents, frequency of response, and hours of response:

Task | Number of respondents | Frequency of responses | Hours per response | Burden hours
Questionnaire | 400 | once | 25 | 50

Total Estimated Annual Burden Hours: 50 (one time).

Status of the proposed information collection: Pending OMB approval.

Authority: The Paperwork Reduction Act of 1995, 44 U.S.C. Chapter 35, as amended.

Dated: December 21, 2001.
Lawrence L. Thompson,
General Deputy Assistant Secretary, for Policy Development and Research.

[FR Doc. 01-32192 Filed 12-31-01; 8:45 am]

BILLING CODE 4210-62-M